DEPARTMENT OF LABOR

Wage and Hour Division

Notice of Approved Agency Information Collection; Information Collection: Requests To Approve Conformed Wage Classifications and Unconventional Fringe Benefit Plans Under the Davis-Bacon and Related Acts and Contract Work Hours and Safety Standards Act

ACTION: Notice.

SUMMARY: In accordance with the Paperwork Reduction Act (PRA), the Wage and Hour Division (WHD) is providing notice to the public that the WHD sponsored information collection request (ICR) titled, “Requests to Approve Conformed Wage Classifications and Unconventional Fringe Benefit Plans Under the Davis-Bacon and Related Acts and Contract Work Hours and Safety Standards Act,” has been approved by the Office of Management and Budget (OMB). WHD is notifying the public that the information collection has been revised and extended effective immediately through September 30, 2026.

DATES: The OMB approval of the revision of this information collection is effective immediately with an expiration date of September 30, 2026.

FOR FURTHER INFORMATION CONTACT: Robert Waterman, Division of Regulations, Legislation, and Interpretations, Wage and Hour, U.S. Department of Labor, Room S-3502, 200 Constitution Avenue NW, Washington, DC 20210; telephone: (202) 693-0406 (this is not a toll-free number) or by sending an email to WHDPRAComments@dol.gov. Alternative formats are available upon request by calling 1-866-487-9243. If you are deaf, hard of hearing or have a speech disability, please dial 7-1-1 to access telecommunications relay services.

SUPPLEMENTARY INFORMATION: The Department of Labor submitted a proposed revision to the information collection titled: Requests to Approve Conformed Wage Classifications and Unconventional Fringe Benefit Plans Under the Davis-Bacon and Related Acts and Contract Work Hours and Safety Standards Act (OMB Control Number 1235-0023), in conjunction with a proposed rule published in the Federal Register on March 18, 2022 (87 FR 15698) and a final rule. The final rule titled, “Updating the Davis-Bacon and Related Acts Regulations,” published in the Federal Register on August 23, 2023 (88 FR 57526). OMB issued a Notice of Action (NOA) on September 6, 2023, approving the collection and extending the expiration of the collection to September 30, 2026, under OMB Control Number 1235-0023.

Section (k) of 5 CFR 1320.11, “Clearance of Collections of Information in Proposed Rules” states, “After receipt of notification of OMB's approval, instruction to make a substantive or material change to, disapproval of a collection of information, or failure to act, the agency shall publish a notice in the Federal Register to inform the public of OMB's decision.” This notice fulfills the Department's obligation to notify the public of OMB's approval of the information collection request.

Dated: September 7, 2023.
Amy Hunter,
Director, Division of Regulations, Legislation, and Interpretation.

[FR Doc. 2023-19715 Filed 9-12-23; 8:45 am]

BILLING CODE 4510-27-P